DEPARTMENT OF ENERGY

Federal Energy Regulatory Commission

[Project No. 11588-011, Alaska]

Alaska Power and Telephone Company; Notice of Availability of Environment Assessment

January 17, 2006.

An environmental assessment (EA) is available for public review. The EA was prepared for an application filed by the Alaska Power and Telephone Company (licensee) on October 17, 2005, requesting Commission approval to make certain design and site location changes to project facilities as licensed. The changes include: (1) Constructing a 675-foot-long, 9 foot horseshoe tunnel to provide a route for the upper section of the penstock and access to the diversion structure, (2) altering the penstock composition and alignment and the alignment and width of the access road for a length of 2,860 feet, (3) moving the powerhouse 80 feet south of the original location and increase the tailrace length from 75 feet to 163 fee, (4) moving the marine access about 600 feet north of the original location and construct a 250-foot-long jetty with a quay and boat ramp; and (5) constructing a 33,000 square-foot rockfill staging area onshore.

The EA evaluates the environmental impacts that would result from approving the licensee's proposed changes to certain project facilities and locations. Some additional ground disturbance would occur but impacts to the terrestrial and marine environments are expected to be minor and short term. The EA finds that approval of the amendment application would not constitute a major Federal action significantly affecting the quality of the human environment.

A copy of the EA is attached to a Commission order titled “Order Amending License”, issued January 12, 2006, and is available in the Commission's Public Reference Room. A copy of the EA may also be viewed on the Commission's Web site at http://www.ferc.gov using the “eLibrary” link. Enter the docket number (P-11588) in the docket field to access the document. For assistance, call (202) 502-8222 or (202) 502-8659 (for TTY).

Magalie R. Salas,
Secretary.

[FR Doc. E6-791 Filed 1-23-06; 8:45 am]

BILLING CODE 6717-01-P